DEPARTMENT OF TRANSPORTATION

Notice of Funding Opportunity; Correction

AGENCY: Office of the Secretary of Transportation, DOT.

ACTION: Notice of Funding Opportunity, Correction.

SUMMARY: The Office of the Secretary of Transportation published a document in the Federal Register of April 27, 2018 concerning the solicitation of applications for National Infrastructure Investments, known as BUILD Transportation Discretionary Grants. This document contained an incorrect deadline date.

FOR FURTHER INFORMATION CONTACT: For further information concerning this notice, please contact the BUILD Transportation program staff via email at BUILDgrants@dot.gov, or call Howard Hill at 202-366-0301. A TDD is available for individuals who are deaf or hard of hearing at 202-366-3993. In addition, DOT will regularly post answers to questions and requests for clarifications as well as information about webinars for further guidance on DOT's website at www.transportation.gov/BUILDgrants.

CORRECTION: In the Federal Register of April 27, 2018, in FR Doc 2018-08906, correct the DATES section and the first sentence in Section D.4.i to read: Applications must be submitted by 8:00 p.m. E.D.T. on July 19, 2018.

DATES: Applications must be submitted by 8:00 p.m. E.D.T. on July 19, 2018.

Dated: April 30, 2018.
T. Finch Fulton,
Deputy Assistant Secretary for Policy.

[FR Doc. 2018-09492 Filed 5-3-18; 8:45 am]

BILLING CODE 4910-9X-P